DEPARTMENT OF THE INTERIOR

National Park Service

National Register of Historic Places; Notification of Pending Nominations

Nominations for the following properties being considered for listing in the National Register were received by the National Park Service before November 13, 2004.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by December 23, 2004.

Carol D. Shull,
Keeper of the National Register of Historic Places.

MARYLAND

Baltimore Independent city

Arcadia—Beverly Hills Historic District, Moravia Rd.—Belair Rd.—Herring Run Park—Harford Rd., Baltimore (Independent City), 04001375

Baltimore and Ohio Locust Point Grain Terminal Elevator, 1700 Beason St., Baltimore (Independent City), 04001379

Reservoir Hill Historic District, North Ave.—Madison Ave.—Druid Park Lake Dr.—Mt. Royal Terrace, Baltimore (Independent City), 04001376

West Baltimore Historic District, Old, Roughly bounded by North Ave., Dolphin St., Franklin St. and Fulton Ave., Baltimore (Independent City), 04001374

Carroll County

Bennett—Kelly Farm, 5842 Oakland Rd., Sykesville, 04001378

Scott, Robert and Phyllis, House, 1805 Uniontown Rd., Westminster, 04001377

Howard County

MacAlpine, 3261 Macalpine Rd., Ellicott City, 04001382

Worcester County

Pocomoke City Historic District, Market, Cedar, 2nd, Clarke, Bridge Sts., Linden Ave., Pocomoke City, 04001383

MISSOURI

Greene County

Wilhoit, Edward M. and Della C., House, 903 S. Weller Ave., Springfield, 04001384

St. Louis Independent city

Delaney School, (St. Louis Public Schools of William B. Ittner MPS (AD)) 6138 Virginia Ave., St. Louis (Independent City), 04001385

MONTANA

Cascade County

Belt Commercial Historic District, Castner St., Belt, 04001380

Rosebud County

Howard School, Old MT 10, Forsyth, 04001381

NORTH CAROLINA

Caldwell County

Patterson School Historic District, Along both sides of NC 268 at the jct. with NC 1504, Legerwood, 04001386

Dare County

Midgett, Mattie, Store and House, 4008 S. Virginia Dare Trail, Nags Head, 04001389

Sea Foam Motel, 7111 S. Virginia Dare Trail, Nags Head, 04001392

Duplin County

Faison, William Wright, House, (Duplin County MPS) NC 1304, 0.2 mi. SE of jct. with NC 1354, Bowdens, 04001390

Mallard, John Wesley, House, (Duplin County MPS) NC 1301, 0.25 mi. S of NC 1329, Faison, 04001391

Durham County

East Durham Historic District, (Durham MRA) Roughly bounded by Southern Rwy right-of-way, N. Guthrie Ave. Holloway St., Hyde Park Ave, S. Plum St. and Vale St., Durham, 04001393

Forsyth County

North Cherry Street Historic District, N. Cherry St. bounded by Fourteenth, Twenty-third and Seventeenth St., Lincoln and Pitsburg Ave., Winston-Salem, 04001394

Wake County

Massey Hill High School, 1062 Southern Ave., Fayetteville, 04001387

Seventy-First Consolidated School, 6830 Raeford Rd., Fayetteville, 04001388

TEXAS

Bexar County

Heimann Building, 118 N. Medina St., San Antonio, 04001396

Coke County

Coke County Jail, 6th at Chadbourne, Robert Lee, 04001395

Hidalgo County

Cortez Hotel, 260 S. Texas Ave., Weslaco, 04001397

Travis County

Gethsemane Lutheran Church and Luther Hall (Boundary Increase), 105 W 16th St., Austin, 04001398

A request for removal has been made for the following resources:

MISSOURI

St. Louis County

Busch's Grove 9160 Clayton Rd. Ladue, 82004721

TEXAS

Harris County

Mraz, Bill, Dance Hall 835 W. 34th St. Houston, 98000219

[FR Doc. 04-26959 Filed 12-7-04; 8:45 am]

BILLING CODE 4312-51-P